DEPARTMENT OF THE INTERIOR

National Park Service

[NPS-WASO-NAGPRA-NPS0035722; PPWOCRADN0-PCU00RP14.R50000]

Notice of Inventory Completion: Rochester Museum & Science Center, Rochester, NY

AGENCY: National Park Service, Interior.

ACTION: Notice.

SUMMARY: In accordance with the Native American Graves Protection and Repatriation Act (NAGPRA), the Rochester Museum & Science Center has completed an inventory of human remains and associated funerary objects and has determined that there is a cultural affiliation between the human remains and associated funerary objects and Indian Tribes or Native Hawaiian organizations in this notice. The human remains and associated funerary objects were removed from Jefferson County, NY.

DATES: Repatriation of the human remains and associated funerary objects in this notice may occur on or after May 30, 2023.

ADDRESSES: Kathryn Murano Santos, Rochester Museum & Science Center, 657 East Avenue, Rochester, NY 14607, telephone (585) 697-1929, email kmurano@rmsc.org.

SUPPLEMENTARY INFORMATION: This notice is published as part of the National Park Service's administrative responsibilities under NAGPRA. The determinations in this notice are the sole responsibility of the Rochester Museum & Science Center. The National Park Service is not responsible for the determinations in this notice. Additional information on the determinations in this notice, including the results of consultation, can be found in the inventory or related records held by the Rochester Museum & Science Center.

Description

Human remains representing, at minimum, one individual were removed from a farm in the Chaumont Bay area in Jefferson County, NY. These human remains were purchased by the Rochester Museum & Science Center (RMSC) from Alvin H. Dewey sometime between 1928 and 1929. No known individual was identified. No associated funerary objects are present.

Human remains representing, at minimum, four individuals were removed from the Long Bay Ossuary 3 Site (Cln 003) in Jefferson County, NY. These human remains were excavated by W.A. Ritchie on behalf of the RMSC in 1932 and 1933. No known individuals were identified. The four associated funerary objects are one lot of flint flakes; one antler projectile point; one scraper blade; and one lot of sherds. These funerary objects are currently missing.

Human remains representing, at minimum, 17 individuals were removed from a location near Cape Vincent in Jefferson County, NY. These human remains were collected by J.B. Nichols and donated to RMSC in 1948. The one associated funerary object is a pottery sherd.

Human remains representing, at minimum, one individual were removed from the Pillar Point Site (Skh 001) in Jefferson County, NY. These human remains were excavated by W.A. Ritchie on behalf of the RMSC in 1936. No known individual was identified. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following type of information was used to reasonably trace the relationship: geographical.

Determinations

Pursuant to NAGPRA and its implementing regulations, and after consultation with the appropriate Indian Tribes and Native Hawaiian organizations, the Rochester Museum & Science Center has determined that:

• The human remains described in this notice represent the physical remains of 23 individuals of Native American ancestry.

• The five objects described in this notice are reasonably believed to have been placed with or near individual human remains at the time of death or later as part of the death rite or ceremony.

• There is a relationship of shared group identity that can be reasonably traced between the human remains and associated funerary objects described in this notice and the Oneida Indian Nation; Oneida Nation; Onondaga Nation; and the Wyandotte Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 29, 2023. If competing requests for repatriation are received, the Rochester Museum & Science Center must determine the most appropriate requestor prior to repatriation. Requests for joint repatriation of the human remains and associated funerary objects are considered a single request and not competing requests. The Rochester Museum & Science Center is responsible for sending a copy of this notice to the Indian Tribes identified in this notice.

Authority: Native American Graves Protection and Repatriation Act, 25 U.S.C. 3003, and the implementing regulations, 43 CFR 10.9, 10.10, and 10.14.

Dated: April 19, 2023.
Melanie O'Brien,
Manager, National NAGPRA Program.

[FR Doc. 2023-08889 Filed 4-26-23; 8:45 am]

BILLING CODE 4312-52-P